DEPARTMENT OF TRANSPORTATION

Federal Aviation Administration

14 CFR Part 39

[Docket No. FAA-2010-0691; Directorate Identifier 2010-CE-027-AD]

RIN 2120-AA64

Airworthiness Directives; Eclipse Aerospace, Inc. Model EA500 Airplanes

AGENCY: Federal Aviation Administration (FAA), Department of Transportation (DOT).

ACTION: Notice of proposed rulemaking (NPRM); correction.

SUMMARY: This document makes a correction to a proposed airworthiness directive (AD), which was published in the Federal Register on July 9, 2010 (75 FR 39472), and applies to certain Eclipse Aerospace, Inc. (Eclipse) Model EA500 airplanes. This NPRM proposed to require incorporating changes to the electronic flight information system and the airplane flight manuals. The FAA incorrectly referenced the applicability for Model EA500 airplanes with certain serial numbers (SNs) of this proposed AD as “000039 through 000104, 000113 through 000115, 000120, and 000123 through 000124, that incorporate Performance Enhancement & Drag Reduction Modification per any revision level of Eclipse SB 500-99-001” instead of “000039 through 000104, 000113 through 000115, 000120, and 000123 through 000124, that incorporate Avionics Upgrade to AVIO NG Configuration for ETT Configured Aircraft per any revision level of Eclipse SB 500-99-002.” This document corrects the aircraft configuration of these applicable SNs. We are issuing this document to help eliminate any confusion that this proposed AD may have created.

DATES: We must receive comments on this proposed AD by August 23, 2010, which is the same comment period as the originally published NPRM.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Eclipse Aerospace, Inc., 2503 Clark Carr Loop, SE., Albuquerque, New Mexico 87106; telephone: (505) 724-1200.

FOR FURTHER INFORMATION CONTACT: Eric Kinney, Aerospace Engineer, 2601 Meacham Blvd., Fort Worth, Texas 76137; telephone: (817) 222-5459; fax: (817) 222-5960.

SUPPLEMENTARY INFORMATION:

Discussion

On July 1, 2010, the FAA issued an NPRM (75 FR 39472, July 9, 2010), which applies to certain Eclipse Model EA500 airplanes. The NPRM proposed to require incorporating changes to the electronic flight information system and the airplane flight manuals.

In the published NPRM, we incorrectly referenced the applicability for Model EA500 airplanes with certain serial numbers (SNs) of this proposed AD as “000039 through 000104, 000113 through 000115, 000120, and 000123 through 000124, that incorporate Performance Enhancement & Drag Reduction Modification per any revision level of Eclipse SB 500-99-001” instead of “000039 through 000104, 000113 through 000115, 000120, and 000123 through 000124, that incorporate Avionics Upgrade to AVIO NG Configuration for ETT Configured Aircraft per any revision level of Eclipse SB 500-99-002.”

Need for the Correction

This correction is needed to correct the applicability for these SNs and eliminate any confusion that this NPRM may have created.

Correction of Publication

Accordingly, the publication of July 9, 2010 (75 FR 39472), of Notice of proposed rulemaking, Docket No. FAA-2010-0691, which was the subject of FR Doc. 2010-16740, is corrected as follows:

§ 39.13 [Corrected]

On page 39474, in the third column, lines 1 through 6, replace “000039 through 000104, 000113 through 000115, 000120, and 000123 through 000124, that incorporate Performance Enhancement & Drag Reduction Modification per any revision level of Eclipse SB 500-99-001” with “000039 through 000104, 000113 through 000115, 000120, and 000123 through 000124, that incorporate Avionics Upgrade to AVIO NG Configuration for ETT Configured Aircraft per any revision level of Eclipse SB 500-99-002.”

Issued in Kansas City, Missouri, on July 27, 2010.
John Colomy,
Acting Manager, Small Airplane Directorate, Aircraft Certification Service.

[FR Doc. 2010-18914 Filed 7-30-10; 8:45 am]

BILLING CODE 4910-13-P